DEPARTMENT OF AGRICULTURE

Forest Service

Camp Tatiyee Land Exchange on the Lakeside Ranger District of the Apache-Sitgreaves National Forests; Santa Catalina, Nogales, Safford, and Douglas Ranger Districts of the Coronado National Forest; Bradshaw Ranger District of the Prescott National Forest; Cave Creek, Tonto Basin, and Pleasant Valley Ranger Districts of the Tonto National Forest

AGENCY: Forest Service, USDA.

ACTION: Notice of intent to prepare an environmental impact statement.

SUMMARY: In accordance with the National Environmental Policy Act of 1969 (NEPA), 42 U.S.C. 4321-4370d, as implemented by the Council on Environmental Quality Regulations, 40 CFR Part 1500-1508, the USDA Forest Service, Apache-Sitgreaves National Forests (ASNFs) (lead forest), will prepare an Environmental Impact Statement (EIS) on a proposal to transfer one 344.06 acre parcel of Federal land on the ASNFs into private ownership, and 16 parcels totaling 1,719.32 acres of private land into Federal ownership. The land proposed for the transfer to the Forest Service includes one 110.57 acre parcel to the ASNFs; nine parcels totaling 1153.31 acres to the Coronado National Forest (CNF); one 11.15 parcel to the Prescott National Forest (PNF); and five parcels totaling 444.42 acres to the Tonto National Forest (TNF). The proposed land exchange would be between the Lawyer's Title Company, which holds the private land in trust for the benefit of the Lions Foundation of Arizona (LFA) and BC2 LLC, and the Apache-Sitgreaves, Coronado, Prescott, and Tonto National Forests in Central and Southern Arizona.

The EIS will analyze the proposed change of the Federal lands (344.06 ac.) for the non-Federal lands (1,719.32 ac.). The Federal and non-Federal lands proposed for exchange are located in Navajo, Cochise, Pima, Santa Cruz, Graham, Maricopa, Gila, and Yavapai Counties, Arizona. The affected Forest Service units are the Lakeside Ranger District of the ASNFs; Santa Catalina, Nogales, Safford, and Douglas Ranger Districts of the CNF; Bradshaw Ranger District of the PNF; Cave Creek, Tonto Basin, and the Pleasant Valley Ranger Districts in TNF. Implementation of the proposed exchange is scheduled for December 2011. The Forest Service invites written comments and suggestions on the scope of the environmental analysis for the EIS from Federal, State, and local agencies, tribes, and other individuals or organizations that may be interested in or affected by the proposed action. The ASNFs Forest Supervisor also invites the public to participate in the environmental analysis and decision-making process for the proposed exchange of lands.

DATES: Comments concerning the scope of the analysis are requested by May 14, 2010. The draft EIS is expected to be filed with the Environmental Protection Agency (EPA) and available for public review in early 2011; the final EIS is scheduled for completion in late 2011.

ADDRESSES: You may request to be placed on the project mailing list or you may direct questions, written comments and suggestions to Edward W. Collins, District Ranger, Lakeside Ranger District, Apache-Sitgreaves National Forests, c/o TEC Inc., 514 Via de la Valle, Ste. 308, Solana Beach, CA 92075, or by facsimile to (858) 509-3158. The office hours for those submitting hand-delivered comments are 8-4:30 local time Monday through Friday, excluding holidays. Hand-delivery comments should be brought to the Lakeside Ranger District, Apache-Sitgreaves National Forests, 2022 W. White Mountain Boulevard, Lakeside, AZ 85929.

Provide Oral Comments to: The Apache-Sitgreaves National Forests, Lakeside Ranger District during normal business hours via telephone (928) 368-2100, or in person, or at an official Agency function (e.g., a public meeting) that is designed to solicit public comments.

Provide Electronic Comments to: comments-southwestern-apache-sitgreaves@fs.fed.us. Electronic comments must be submitted in a format such as an e-mail message, plain text (.txt), rich text format (.rtf) and Microsoft Word (.doc). The subject line must contain the name of the project for which you are submitting comments (i.e. Camp Tatiyee Land Exchange). Comments must have an identifiable name attached or verification of identity will be required. A scanned signature may serve as verification on electronic comments. It is important that reviewers provide their comments at such times and in such a way that they are useful to the Agency's preparation of the EIS. Therefore, comments should be provided prior to the close of the comment period and should clearly articulate the reviewer's concerns and contentions. The submission of timely and specific comments can affect a reviewer's ability to participate in subsequent administrative or judicial review.

Comments received in response to this solicitation, including names and addresses of those who comment, will become part of the public record for this proposed action. Comments submitted anonymously will be accepted and considered; however, anonymous comments will not provide the respondent with standing to participate in subsequent administrative or judicial review.

FOR FURTHER INFORMATION CONTACT: Edward Collins, District Ranger, Lakeside Ranger District, Apache-Sitgreaves National Forests, 2022 W. White Mountain Blvd., Lakeside, AZ 85929, (928) 368-2100. Individuals who use telecommunication devices for the deaf (TDD) may call either the Federal Information Relay Service (FIRS) at 1-800-877-8339 between 8 a.m. and 8 p.m., Eastern Time, Monday through Friday, or the Lakeside Ranger District TTY (928) 368-5088 between the hours of 8 a.m. and 4 p.m., Pacific Time, Monday through Friday.

SUPPLEMENTARY INFORMATION:

Purpose and Need for Action

The proposal to exchange lands in the Apache-Sitgreaves, Coronado, Tonto, and Prescott National Forests responds to the Forest Service's need for consolidation of Federal land ownership patterns and the need to enhance management of the public's natural resources. There is a need to acquire lands that (1) protect habitat for several threatened, endangered, and sensitive species; (2) facilitate public access to Federal lands; (3) improve wetlands, floodplains, and riparian areas; (4) decrease the complexity of maintaining property boundaries; and (5) improve the efficiency of resource management by focusing the Forests' funding and staff on consolidated ownerships.

The non-Federal lands would provide additional federally managed habitat for wildlife and plant species. The consolidation of public land ownership would result in a reduction in mixed ownership patterns. The elimination of numerous miles of common Federal/private landline boundaries and controlling land survey corners would contribute to increased management efficiency and a reduction in future administrative costs. Forest Service administration of over a dozen special use permits (SUPs) on the Federal land would no longer be necessary. Possible future residential/subdivision development on the private inholdings would be eliminated. On a Forest Service-wide basis, there could be a net gain of 1,375.26 acres of land that would be available for public outdoor recreation uses.

Proposed Action

The Forest Service is proposing a land-for-land exchange that would result in federal acquisition of approximately 1,719.32 acres of non-Federal lands in the Coronado National Forest, Prescott National Forest, Apache-Sitgreaves National Forest, and Tonto National Forest. Approximately 344.06 acres of Federal land would be conveyed within the incorporated town of Pinetop-Lakeside, Arizona from the ASNFs.

The conveyance of the Federal land would increase the number of acres of private land within the Town of Pinetop-Lakeside by 344.06 acres while eliminating one of the last isolated Forest Service parcels in the town. The land would continue to be used for existing youth organization camps with the remainder being available for future development within the town of Pinetop-Lakeside in accordance with local zoning ordinances.

The proposed exchange would be with LFA and BC2 LLC, through Lawyers Title Company, as Trustee, under authority of the General Exchange Act of March 20, 1922; the Federal Land Policy and Management Act of 1976 (FLPMA), as amended; and the Federal Land Exchange Facilitation Act of August 20, 1988.

The proposed exchange of lands would not require an amendment to the ASNFs Land and Resource Management Plan. Pursuant to the regulations for land exchanges (36 CFR 254.3(f)): “Lands acquired by exchange that are located within areas having an administrative designation established through the land management planning process shall automatically become part of the area within which they are located, without further action by the Forest Service, and shall be managed in accordance with the laws, rules, and regulations, and land and resource management plan applicable to such area.”

Background

In 1997, the LFA, through its representative, Page Land & Cattle Co., proposed to exchange private land for the National Forest System (Federal) land where their Camp Tatiyee youth organization camp which is authorized by a SUP. LFA proceeded to acquire non-Federal properties in the PNF, ASNFs and TNF and presented the ASNFs with their proposal for the Camp Tatiyee Land Exchange on June 13, 2000. A September 5, 2003 preliminary value analysis concluded that the estimated value of the Federal land exceeded that of the offered non-Federal lands and that LFA would need to acquire additional properties for the proposed exchange to proceed. On December 1, 2005, Page Land & Cattle Co. submitted a revised proposal, which included a number of additional parcels previously associated with the Cote Land Exchange on the CNF.

A Value Consultation for the proposed land exchange was completed on May 9, 2007, and is documented in a Feasibility Analysis that was approved by the Acting Director of Lands & Minerals, USDA Forest Service, Southwestern Region, on August 9, 2007. The Value Consultation associated with the feasibility analysis concluded that the proposed land exchange is in compliance with the equal value requirement of the FLPMA, as amended. An Agreement to Initiate the Camp Tatiyee Land Exchange was executed by the Acting Director of Lands & Minerals, USDA Forest Service, Southwestern Region, on October 1, 2007. As required by 36 CFR 254.8, the Notice of Exchange Proposal (NOEP) was published in the Arizona Daily Star, Tucson Citizen, the Tribune, Payson Roundup, Courier, and White Mountain Independent for four consecutive weeks from November 5, 2007 to November 27, 2007.

Possible Alternatives

A full range of alternatives to the proposed action, including a no-action alternative, will be considered during the environmental analysis and will be discussed in the EIS. The no-action alternative represents no change from the current pattern of land ownership, and it serves as the baseline for the comparison among the action alternatives.

Responsible Official

The Responsible Official is the Regional Forester, Southwestern Region. The Responsible Official will review all issues, alternatives, and environmental consequences associated with the analysis; consider all public comments and responses; and comply with all policies, regulations, and laws in making a decision regarding the proposed exchange of lands documented in the final EIS for the Camp Tatiyee Land Exchange. The Responsible Official will document his decision and rationale for the decision in a Record of Decision. The Responsible Official's decision will be subject to public notice, review, comment, and appeal under the Forest Service Regulations for Notice, Comment, and Appeal Procedures for National Forest System projects and Activities at 36 CFR part 215 and 36 CFR part 251.

Nature of Decision To Be Made

The Forest Service will determine if the lands to be exchanged are desirable, in the public interest, and suitable for inclusion in the National Forest System. Land exchanges are discretionary, voluntary real estate transactions between the Federal and non-Federal parties.

The exchange can only be completed after the authorized officer determines that the exchanges meets the requirements at 36 CFR 254.3(b): (2)(i) The resource values and the public objectives served by non-Federal lands and interests to be acquired are equal to or exceed the resource values and public objectives served by the Federal lands to be disposed, and (ii) the intended use of the disposed Federal lands will not substantially conflict with established management objectives on adjacent Federal lands, including Indian Trust Lands. Lands will be exchanged on a value for value basis, based on fair market value appraisals. The appraisal is prepared in accordance with the Uniform Appraisal Standards of Professional Appraisal Practice and the Uniform Appraisal Standards for Federal Land Acquisition. The appraisal prepared for the land exchange is reviewed by a qualified review appraiser to ensure that it is fair and complies with the appropriate standards. Under the FLPMA, all exchanges must be equal in value. Forest Service regulations at 36 CFR 254.3(c) require that exchanges must be of equal value or equalized pursuant to 36 CFR 254.12 by cash payment after making all reasonable efforts to equalize values by adding or deleting lands. If lands proposed for exchange are not equal in value, either party may make them equal by cash payment not to exceed 25 percent of the Federal land value. A value consultation by the Regional Appraiser on May 9, 2007 concluded that it appears that the exchange is structured with flexibility to comply with the equal value requirement of the FLMPA, as amended.

Preliminary Issues

An initial scoping letter dated October 30, 2007, was mailed to adjacent landowners, potentially interested parties, and affected special use permit holders who it was believed would have an interest in or be affected by the project. The letter explained that interested parties should access the ASNFs internet web site where they would find a description of the lands being considered for exchange, the legal descriptions of the parcels, and maps displaying their locations. Comments were requested by December 15, 2007. Based upon the comments received, and litigation stemming from other land exchange activities, the Forest Service determined that an environmental assessment would be insufficient for the NEPA process and an EIS would be required.

Preliminary issues identified include concerns over the loss of opportunity for the continued use of the National Forest land for wildlife viewing and recreation by residents living in the area adjacent to the Federal parcel and concerns regarding the effect of possible future development of the Federal parcel once conveyed into private ownership.

Scoping Process

This notice of intent formally initiates the scoping process for this EIS, which guides the development of the EIS. Scoping will include notice in the ASNF's Quarterly Schedule of Proposed Actions; distribution of letters to individuals, organizations, and agencies who have previously indicated interest in the Camp Tatiyee Land Exchange; communication with Tribal interests; and news releases in the Arizona Republic (the regional newspaper of record), and the newspaper of record each Forest's newspaper of record: The Arizona Daily Star (Coronado), Daily Courier (Prescott), Arizona Capitol Times (Tonto), and the White Mountain Independent (ASNFs) and to other papers serving areas affected by this proposal: Tucson Citizen, Sierra Vista Herald, Nogales International, Eastern Arizona Courier, East Valley Tribune and Payson Roundup. Any news releases will also be distributed to other local newspapers that serve areas affected by this proposal. A public meeting is scheduled for Tuesday, April 13, 2010, from 3 p.m. to 7 p.m. at the at the mess hall of Camp Tatiyee, 5283 White Mountain Boulevard, Lakeside, Arizona 85929. This meeting and any future public meetings will have a notice of time and location provided to newspapers that serve areas affected by this proposal. The scoping process will include identifying any key issues and previously unknown potential environmental effects of the proposed action.

The comment period for the draft EIS will be 45 days from the date the EPA publishes the notice of availability in the Federal Register. At that time, copies of the draft EIS will be distributed to interested and affected agencies, organizations, tribes, and members of the public for their review and comment. It is important that those interested in the management of the National Forests participate at that time.

Comments received in response to this solicitation, including names and addresses of those who comment, will be considered part of the public record of this proposed action and will be available for public inspection. Comments submitted anonymously will be accepted and considered; however, anonymous comments do not provide standing to appeal any decision made under 36 CFR Part 215 and 36 CFR Part 251. Additionally, pursuant to 7 CFR 1.27(d), any person may request the agency to withhold a submission from the public record by showing how the Freedom of Information (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address.

It is very important that those interested in this proposed action participate by the close of the comment period so that substantive comments and objections are made available to the Forest Service at a time when it can meaningfully consider them and respond to them in the final EIS. To assist the Forest Service in identifying and considering issues and concerns on the proposed action, comments on the draft EIS should be as specific as possible. Reviewers may wish to refer to the Council on Environmental Quality Regulations for implementing the procedural provisions of the NEPA at 40 CFR 1503.3 in addressing these points.

Dated: March 19, 2010.
Chris Knopp,
Forest Supervisor.

[FR Doc. 2010-6589 Filed 3-24-10; 8:45 am]

BILLING CODE 3410-11-P